DEPARTMENT OF COMMERCE

National Oceanic and Atmospheric Administration

RIN 0648-XG385

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Acting Assistant Regional Administrator for Sustainable Fisheries, Greater Atlantic Region, NMFS, has made a preliminary determination that an Exempted Fishing Permit application contains all of the required information and warrants further consideration. This Exempted Fishing Permit would allow four commercial fishing vessels, directed by Coonamessett Farm Foundation, to be exempt from Atlantic sea scallop regulations for the purpose of bycatch reduction research.

Regulations under the Magnuson-Stevens Fishery Conservation and Management Act require publication of this notification to provide interested parties the opportunity to comment on applications for proposed Exempted Fishing Permits.

DATES: Comments must be received on or before August 21, 2018.

ADDRESSES: You may submit written comments by any of the following methods:

• Email: NMFS.GAR.EFP@noaa.gov. Include in the subject line “Comments on CFF Extended Link Apron EFP.”

• Mail: Michael Pentony, Regional Administrator, NMFS, NE Regional Office, 55 Great Republic Drive, Gloucester, MA 01930. Mark the outside of the envelope “Comments on CFF Extended Link Apron EFP.”

FOR FURTHER INFORMATION CONTACT: Shannah Jaburek, Fishery Management Specialist, 978-282-8456.

SUPPLEMENTARY INFORMATION: Coonamessett Farm Foundation (CFF) submitted a complete application for an Exempted Fishing Permit (EFP) on July 10, 2018, to conduct commercial fishing activities that the regulations would otherwise restrict. The EFP would authorize vessels to test the efficacy of an extended link scallop dredge apron at reducing the capture of yellowtail and windowpane flounder and small scallops over the duration of four directed research cruises. The EFP would support research associated with a project titled “Development of an Extended Link Apron: A Broad Range Tool for Bycatch Reduction,” that has been funded under the 2017 Atlantic Sea Scallop Research Set-Aside (RSA) Program.

CFF is requesting exemptions that would exempt four commercial fishing vessels from the following regulations:

• Atlantic sea scallop days-at-sea (DAS) allocations at 50 CFR 648.53(b);

• Crew size restrictions at § 648.51(c);

• Dredge gear restrictions for minimum mesh size at § 648.51(b)(2) and gear obstructions at § 648.51(b)(4)(iii);

• Atlantic sea scallop observer program requirements at § 648.11(g);

• Access area program requirements at § 648.59(a)(1)-(3), (b)(2), (b)(4);

• Rotational closed area exemptions for Closed Area I Access Area at § 648.60(c), Closed Area II Access Area at § 648.60(d), and all four of the Nantucket Lightship areas at § 648.60(e)-(h); and

• Possession limits and minimum size requirements specified in 50 CFR part 648, subpart B and subparts D through O, to allow temporary possession for biological sampling.

Any fishing activity conducted outside the scope of the exempted fishing activity would be prohibited.

The project would consist of conduct four, 7-day research trips for a total of 28 days-at-sea on limited access (LA) vessels fishing on Georges Bank. All trips will take place from September 2018 through June 2019. Vessels would complete approximately 55 paired, 30-minute tows per trip at a standard vessel speed of 4.8 knots. In addition to open areas, tows could occur in Closed Area I, Closed Area II, or the four Nantucket Lightship Scallop Rotational Areas. The four research trips would be centralized around areas with high yellowtail and winter flounder bycatch and in areas with a high abundance of harvestable size scallops mixed with pre-recruit scallops.

Vessels would fish two, 15-foot (4.57-m) Turtle Deflector Dredges; one dredge would be rigged with a standard apron while the other would be rigged with an extended vertical link apron. The project will alternate tows with and without the dredge over net over both dredges. Standard linking is defined as a single link between ring spaces, and the extended link is defined as two links linked together between rings. Both dredges would use 4-inch (10.16-cm) rings and a 10-inch (25.40-cm) twine top.

For all tows, the sea scallop catch would be counted into baskets and weighed. One basket from each dredge would be randomly selected and the scallops would be measured in 5 mm increments to determine size selectivity. Finfish catch would be sorted by species and then counted, weighed, and measured in 1 mm increments. Depending on the volume of scallops and finfish captured, the catch would be subsampled as necessary. No catch would be retained for longer than needed to conduct sampling and no finfish or scallop catch would be landed for sale. Table 1 contains an estimate of the finfish catch anticipated for the project.

Table 1—CFF Extended Link Apron Project Catch Estimates
Species | Weight (lbs) | Weight (kg)
Sea Scallop | 16,552 | 7,508
Yellowtail Flounder | 549 | 249
Winter Flounder | 803 | 364
Windowpane Flounder | 2,828 | 1,283
Summer Flounder | 943 | 428
Fourspot Flounder | 74 | 34
American Plaice Flounder | 90 | 41
Witch Flounder | 12 | 5
Haddock | 58 | 26
Atlantic Cod | 100 | 45
Monkfish | 8,420 | 3,819
Spiny Dogfish | 87 | 39
Barndoor Skate | 1,109 | 503
NE Skate Complex (excluding barndoor skate) | 63,528 | 28,816

CFF needs these exemptions to allow them to conduct experimental dredge towing without being charged DAS, and to deploy gear in closed access areas where concentrations of primary bycatch species are sufficiently high to provide statistically robust results. Researchers also need mesh size and gear obstruction exemptions in order to use the dredge net cover. Utilizing the dredge net cover will allow researchers to quantify fish that would normally escape through the gear during normal fishing operations. Participating vessels need crew size waivers to accommodate science personnel, and possession waivers will enable researchers to conduct finfish sampling activities. The project would be exempt from the sea scallop observer program requirements because activities conducted on the trip are not consistent with normal fishing operations.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: August 1, 2018.
Margo B. Schulze-Haugen,
Acting Director, Office of Sustainable Fisheries, National Marine Fisheries Service.

[FR Doc. 2018-16770 Filed 8-3-18; 8:45 am]

BILLING CODE 3510-22-P